DEPARTMENT OF TRANSPORTATION

Federal Highway Administration

23 CFR Part 658

[Docket No. FHWA-2017-0030]

Definition of Automobile Transporter

AGENCY: Federal Highway Administration (FHWA), DOT.

ACTION: Request for comments.

SUMMARY: This document requests comments on including non-cargo-carrying tractor-high mount automobile semi-trailer combination in the definition of automobile transporter in the FHWA's guidance.

DATES: Comments must be received on or before October 16, 2017.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov including any personal information provided.

FOR FURTHER INFORMATION CONTACT: For questions about the Definition of Automobile Transporters, contact Crystal Jones, FHWA Office of Freight Management and Operations, (202) 366-2976, or by email at Crystal.Jones@dot.gov. For legal questions, please contact William Winne, FHWA Office of the Chief Counsel, (202) 366-1397, or by email at William.Winne@dot.gov. Business hours for the FHWA are from 8:00 a.m. to 4:30 p.m., e.t., Monday through Friday, except Federal holidays.

SUPPLEMENTARY INFORMATION:

Electronic Access

You may retrieve a copy of the notice through the Federal eRulemaking portal at: http://www.regulations.gov. The Web site is available 24 hours each day, every day of the year. Electronic submission and retrieval help and guidelines are available under the help section of the Web site. An electronic copy of this document may also be downloaded from the Office of the Federal Register's home page at: http://www.archives.gov/federal_register and the Government Publishing Office's Web page at: http://www.gpoaccess.gov.

Background

Federal laws and regulations pertaining to vehicles that are classified as automobile transporters, and providing for a minimum vehicle length and allowable overhang lengths for these configurations, support the safe and efficient movement of autos by truck through States and across State lines. In accordance with 49 U.S.C. 31111(a)(1) and 23 CFR 658.5, the term “automobile transporter” means any vehicle combination designed and used for the transport of assembled highway vehicles, including truck camper units. Federal regulations classify automobile transporters as specialized equipment and identify three possible configurations of automobile transporters: Traditional, “low boys,” and stinger steered. 23 CFR 658.13(e)(1)(i). As provided in 23 CFR 658.13(e), and in the definition of a “Tractor or Truck Tractor” at 23 CFR 658.5, automobile transporters may carry vehicles on the power unit behind the cab and on an over-cab rack.

If a vehicle is classified as an automobile transporter, no State shall impose an overall length limitation of less than 65 feet on traditional automobile transporters, including “low boys,” or less than 80 feet on stinger-steered automobile transporters. 49 U.S.C. 31111(b)(1)(G). All length provisions regarding automobile transporters are exclusive of front and rear cargo overhang. For traditional automobile transporters, no State shall impose a front overhang limitation of less than 3 feet or a rear overhang limitation of less than 4 feet. 23 CFR 658.13(e)(1)(ii). For stinger-steered automobile transporters, no State shall impose a front overhang limitation of less than 4 feet or a rear overhang limitation of less than 6 feet. 49 U.S.C. 31111(b)(1)(G).

Other truck tractor-semitrailer combinations (not specifically defined as automobile transporters) are subject to the length provisions of 23 CFR 658.13(c). Under this regulatory provision, States determine the maximum length limits for semitrailers operating in a truck tractor-semitrailer combination; but no State shall prohibit the use of trailers or semitrailers of such dimensions as those that were in actual and lawful use in such State on December 1, 1982, as set out in appendix B to 23 CFR 658.

It is a longstanding FHWA policy position, established through guidance, that to qualify as an automobile transporter as defined in 49 U.S.C. 31111(a)(1) and be treated as specialized equipment as described in 23 CFR 658.13(e)(1)(i), both traditional and stinger-steered automobile transporter combinations must be capable of carrying cargo on the power unit/tractor. Because a truck-tractor in high-mount, truck-tractor-semitrailer combination is not capable of carrying vehicles on the power unit, FHWA's current policy interpretation is that such a vehicle combination may not be considered an automobile transporter subject to the length allowances in 23 CFR 658.13(e)(1)(ii).

In response to the recent inquiries, FHWA has considered the definitions and length provisions that apply to automobile transporters and language in the Surface Transportation Act of 1982 section 411(f), which states “a tractor and semitrailer engaged in the transportation of automobiles may transport motor vehicles on part of the power unit,” and finds that it may be within the Department's current legislative authority to interpret this language to include auto transporter combinations that are not capable of carrying vehicles on the power unit, such as a high-mount, truck-tractor-semitrailer combination, without additional action from Congress.

Defining the high-mount combination as an automobile transporter would trigger the use of the same length allowances that currently apply to a traditional automobile transporter. In doing so, Federal laws would govern the operation of this vehicle on certain roadways, and no State would be able to impose an overall length limitation of less than 65 feet or a front overhang limitation of less than 3 feet or a rear overhang limitation of less than 4 feet for this vehicle combination.

Purpose of the Request

The FHWA is requesting comments from affected stakeholders and the public regarding interpreting the statutory and regulatory language to include a high-mount, truck-tractor-semitrailer combination as an automobile transporter and treating the combination as specialized equipment. Comments are requested on the following questions related to defining a high-mount, truck-tractor-semitrailer combination as an automobile transporter:

• How will the inclusion of a high-mount, truck-tractor-semitrailer combination in the definition of automobile transporter impact the flow of Interstate commerce?

• Are there safety issues with a high-mount, truck-tractor-semitrailer combination as an automobile transporter as it relates to the operation of this vehicle configuration on the National Network?

• What are implementation implications (e.g. roadside enforcement and changes to State laws) if Federal versus State laws would govern the operation of this vehicle configuration on the National Network?

• What State laws are currently in place regarding a highmount, truck-tractor-semitrailer combination? Please provide legal citations, if applicable.

• Are there States that allow the high-mount, truck-tractor-semitrailer combination to operate under the same length provisions as a traditional automobile transporter?

• Is there any other information relating to safety, vehicle productivity, or infrastructure preservation relevant to these questions?

Authority: 49 U.S.C. 31111 and Section 411 of the Surface Transportation Assistance Act of 1982 (Pub. L. 97-424)

Issued on: September 7, 2017.
Brandye L. Hendrickson,
Acting Administrator .

[FR Doc. 2017-19516 Filed 9-13-17; 8:45 am]

BILLING CODE 4910-22-P